SECURITIES AND EXCHANGE COMMISSION

Sunshine Act Meeting; Date Change

FEDERAL REGISTER CITATION OF PREVIOUS ANNOUNCEMENT: 86 FR 23458, May 3, 2021.

PREVIOUSLY ANNOUNCED TIME AND DATE OF THE MEETING: Thursday, May 6, 2021 at 2:00 p.m.

CHANGES IN THE MEETING: The Closed Meeting scheduled for Thursday, May 6, 2021 at 2:00 p.m., has been changed to Friday, May 7, 2021 at 1:00 p.m.

CONTACT PERSON FOR MORE INFORMATION: For further information; please contact Vanessa A. Countryman from the Office of the Secretary at (202) 551-5400.

Dated: May 3, 2021.
Vanessa A. Countryman,
Secretary.

[FR Doc. 2021-09552 Filed 5-3-21; 11:15 am]

BILLING CODE 8011-01-P